DEPARTMENT OF TRANSPORTATION

Federal Railroad Administration

[Docket Number FRA-2010-0180]

Petition for Waiver of Compliance

In accordance with part 211 of Title 49 Code of Federal Regulations (CFR), this document provides the public notice that by a document dated February 9, 2016, the Denton County Transportation Authority (DCTA) has petitioned the Federal Railroad Administration (FRA) for an extension of its existing waiver of compliance from certain provisions of the Federal railroad safety regulations. Specifically, DCTA is requesting an extension of its existing relief from the following parts and specific regulations of 49 CFR part 238, Passenger Equipment Safety Standards (Sections 238.115, 238.121, 238.223, 238.305, 238.309, and Appendix D); Part 229, Railroad Locomotive Safety Standards (Sections 229.31, 229.51, 229.47, 229.71, 229.135, and Appendix D); Part 231, Railroad Safety Appliance Standards (Section 231.14); and Part 239, Passenger Train Emergency Preparedness (Section 239.101). FRA assigned the petition Docket Number FRA-2010-0180.

DCTA operates its “A-train” commuter rail service along a 21.3-mile corridor adjacent to and parallel with Interstate 35 between Dallas, TX, and Denton, TX, featuring six station stops. The commuter rail operation is contracted to Herzog for vehicle and right-of-way maintenance, dispatching services, dispatching, and operations. The corridor also has a currently active freight operation served by the Dallas Garland and Northeastern Railroad, which provides freight service to customers in the Lewisville, TX, area. The passenger operations are temporally separated from freight operations through a plan on file with FRA using interlocked derails on the southern terminus and stub-end track on the northern terminus. In its extension request, DTCA states that a real-time shunt monitoring system is being installed in conjunction with Positive Train Control.

DCTA operates Stadler diesel multiple-unit (DMU) vehicles constructed to meet European safety standards for crashworthiness and related safety measures. As asserted in its original petition, DCTA chose these vehicles because DCTA believes that they offer an equivalent or higher level of safety, security, and performance to the passenger and crew than conventional FRA-compliant equipment.

In a July 13, 2011, decision letter, FRA granted relief from the Federal railroad safety regulations listed above. Additionally, FRA invoked its authority under 49 U.S.C. 20306 to exempt DCTA from the requirements of 49 U.S.C. 20302 for sill steps and end handholds. The current waiver expires on July 13, 2016.

FRA notes that this docket number includes a separate permanent decision letter dated May 31, 2012, which was granted in accordance with FRA's October 2011 final report and guidelines on “Technical Criteria and Procedures for Evaluating the Crashworthiness and Occupant Protection Performance of Alternatively Designed Passenger Rail Equipment for Use in Tier I Service,” issued by the Engineering Task Force (ETF). This letter, known as the “Alternatively Designed Vehicle (AVT)” waiver, was granted to DCTA for use of its Stadler GTW 2/6 DMUs, finding that they are in compliance with crashworthiness criteria contained in the ETF guidelines. DCTA is not requesting any modification of the conditions contained in that decision letter.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by April 18, 2016 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Robert C. Lauby,
Associate Administrator for Railroad Safety, Chief Safety Officer.

[FR Doc. 2016-04670 Filed 3-2-16; 8:45 am]

BILLING CODE 4910-06-P